DEPARTMENT OF COMMERCE

National Oceanic and Atmospheric Administration

[I.D. 031003E]

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held on Monday, March 31, 2003 through Tuesday, April 8, 2003. See SUPPLEMENTARY INFORMATION for specific dates and times.

ADDRESSES: The meetings will be held at the Anchorage Hilton Hotel, 500 W 3rd Avenue, Anchorage, AK 99501.

Council address: North Pacific Fishery Management Council, 605 W. 4th Ave., Suite 306, Anchorage, AK 99501-2252.

FOR FURTHER INFORMATION CONTACT: Council staff, telephone: 907-271-2809.

SUPPLEMENTARY INFORMATION: The Council's Advisory Panel will begin at 8 a.m., Monday, March 31 and continue through Saturday, April 5, 2003. The Scientific and Statistical Committee will begin at 8 a.m. on Monday, March 31, and continue through Wednesday, April 2, 2003.

The Council will begin its plenary session at 8 a.m. on Wednesday, April 2 continuing through Tuesday April 8th. All meetings are open to the public except executive sessions.

Council Plenary Session: The agenda for the Council's plenary session will include the following issues. The Council may take appropriate action on any of the issues identified.

1. Reports

(a) Executive Director's Report

(b) NMFS Management Report

(c) Alaska Department of Fish &Game (ADF&G) Management Report

(d) Coast Guard Report

(e) U.S. Fish &Wildlife Report

2. Gulf of Alaska Rationalization (GOA): Receive draft analytical outline, refine Alternatives as necessary.

3. Crab Rationalization: (a) Receive Committee reports and finalize action on trailing amendments; (b) Department of Justice opinion on anti-trust issues.

4. Steller Sea Lion (SSL) Issues: (a) Review draft response to Biological Opinion (BiOp) remand; (b) National Academy of Science SSL Report - Schedule discussion for future action; (c) Report on Aleutian Island pollock closure analysis.

5. Essential Fish Habitat (EFH): Receive progress report on Environmental Impact Statement (EIS) development, objectives, and research plan.

6. Programmatic Groundfish Supplemental Environmental Impact Statement (PGSEIS): Receive progress report.

7. Bering Sea/Aleutian Island (BSAI) Pacific Cod Allocation: Initial review of Amendment 77 (allocations among fixed gear components).

8. Improved Retention/Improved Utilization (IR/IU): (a) Review proposal for Trailing Amendment A (multi-species head & Gut (H&G) co-ops), and associated allocation issues; (b) Initial review of Trailing Amendment C (minimum retention standards); (c) Final review of Trailing Amendment D (5% exemption); and (d) Discussion of relationship of Amendment A & C.

9. Observer Program: Review timeline and analytical outline for restructuring observer program.

10. Halibut Subsistence: (a) Final action on Ninilchik inclusion; (b) Report on other potentially eligible communities.

11. Community Development Quota (CDQ) Program: Final action on “other species” exemption

12. Groundfish Issues: (a) Discuss future actions resulting from F40 Report; (b) Receive progress report on rockfish/non-target species management; (c) Review status of TAC-setting amendment package; (d) Review request(s) for Experimental Fishing Permits (halibut donation and salmon excluder device); (e) Recommend VIP rates for latter half of 2003; (f) SSC comments on National Standards 1 guidelines; and (g) Review research priorities.

13. Staff Tasking: Review tasking and committees and provide direction to staff.

14. Other Business.

Scientific and Statistical Committee (SSC): The SSC agenda will include the following issues:

1. C-1 GOA Rationalization

2. C-3 Steller Sea Lion

3. C-4 Essential Fish Habitat

4. C-5 PGSEIS

5. C-6 BSAI Cod Allocation

6. C-7 IR/IU

7. C-8 Observer Program

8. D-1 Groundfish Issues

Advisory Panel: The Advisory Panel will address the same agenda issues as the Council.

Although non-emergency issues not contained in this agenda may come before this Council for discussion, in accordance with the Magnuson-Stevens Fishery Conservation and Management Act, these issues may not be the subject of formal Council action during the meeting. Council action will be restricted to those issues specifically identified in the agenda listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Gail Bendixen at 907-271-2809 at least 7 working days prior to the meeting date.

Dated: March 13, 2003.
Peter H. Fricke,
Acting Director, Office of Sustainable Fisheries, National Marine Fisheries Service.

[FR Doc. 03-6472 Filed 3-17-03; 8:45 am]

BILLING CODE 3510-22-S